ENVIRONMENTAL PROTECTION AGENCY

[FRL-12414-01-R9]

Clean Air Act Operating Permit Program; Order on Petition for Objection to State Operating Permit for Sundance Power Plant

AGENCY: Environmental Protection Agency (EPA).

ACTION: Notice of final order on petition.

SUMMARY: The Environmental Protection Agency (EPA) Administrator signed an order dated November 6, 2024, denying a petition dated June 27, 2024, from Sierra Club. The Petition requested that the EPA object to a Clean Air Act (CAA) title V operating permit issued by the Pinal County Air Quality Control District (PCAQCD) to the Arizona Public Service Company Sundance Power Plant (“APS Sundance”), an electricity generating station located in Casa Grande, Arizona.

FOR FURTHER INFORMATION CONTACT: Catherine Valladolid, EPA Region 9, (415) 947-4103, valladolid.catherine@epa.gov. The final Order and Petition are available electronically at: https://www.epa.gov/title-v-operating-permits/title-v-petition-database.

SUPPLEMENTARY INFORMATION: The EPA received a petition from Sierra Club dated June 27, 2024, requesting that the EPA object to the issuance of operating permit number V20690.R02, issued by PCAQCD to APS Sundance in Casa Grande, Arizona. On November 6, 2024, the EPA Administrator issued an order denying the petition. The Order explains the basis for the EPA's decision.

Sections 307(b) and 505(b)(2) of the CAA provide that a petitioner may request judicial review of those portions of an order that deny issues in a petition. Any petition for review shall be filed in the United States Court of Appeals for the appropriate circuit no later than February 4, 2025.

Dated: November 26, 2024.
Martha Guzman Aceves
Regional Administrator, Region IX.

[FR Doc. 2024-28530 Filed 12-5-24; 8:45 am]

BILLING CODE 6560-50-P